Proclamation 9312 of August 31, 2015

National Ovarian Cancer Awareness Month, 2015

By the President of the United States of America

A Proclamation

This year, more than 14,000 women will lose their lives to ovarian cancer—the most deadly of all female reproductive system cancers—and more than 21,000 of our mothers, daughters, wives, and sisters will be diagnosed with this terrible disease. Every day across our country, families, friends, and communities come together to support and empower those who are fighting for their lives, offering encouragement and bringing hope for a cancer-free future. During National Ovarian Cancer Awareness Month, our Nation pauses to lift up all those who know the pain of this disease, honor those we have lost, and renew our commitment to fighting ovarian cancer through more effective prevention, detection, and treatment.

Ovarian cancer is difficult to detect early—there is no simple and reliable way to screen for it and symptoms are often not clear until later stages. By recognizing possible warning signs and unexplained changes, women can increase their likelihood of detecting ovarian cancer in its early stages when treatment is most effective and the chances for recovery are greatest. To bolster these efforts, my Administration has continued to invest in innovative research to improve early detection and treatment of ovarian cancer, and we are working hard to increase public awareness among women about all types of gynecological cancers. To learn more about risk factors and symptoms, Americans can visit www.Cancer.gov/Ovarian.

I encourage all women to speak with their health care providers about ovarian cancer. Under the Affordable Care Act, most health plans are now required to cover well-woman visits without copays or deductibles—providing millions of women with the opportunity to access critical care and talk with health care professionals about risks they may face. Provisions in the law also eliminate annual and lifetime dollar limits on coverage and prohibit insurance companies from denying participation in an approved clinical trial for cancer or another life-threatening disease. The law also forbids insurers from denying coverage due to a pre-existing condition, such as cancer or a family history of cancer.

This month, we stand with all those who continue to fight this devastating disease and with those who have lost loved ones because of it. Along with the advocates, medical researchers, and health care providers who tirelessly battle this disease every day, we rededicate ourselves to the urgent work of increasing awareness and improving care for those with ovarian cancer—and we continue forging a future free from cancer in all its forms.

NOW, THEREFORE, I, BARACK OBAMA, President of the United States of America, by virtue of the authority vested in me by the Constitution and the laws of the United States, do hereby proclaim September 2015 as National Ovarian Cancer Awareness Month. I call upon citizens, government agencies, organizations, health care providers, and research institutions to raise ovarian cancer awareness and continue helping Americans live longer, healthier lives.

IN WITNESS WHEREOF, I have hereunto set my hand this thirty-first day of August, in the year of our Lord two thousand fifteen, and of the Independence of the United States of America the two hundred and fortieth.

[FR Doc. 2015-22330

Filed 9-2-15; 11:15 am]

Billing code 3295-F5